DEPARTMENT OF COMMERCE

National Institute of Standards and Technology

Information Collection Activities; Submission to the Office of Management and Budget (OMB) for Review and Approval; Comment Request; National Institute for Standards and Technology NIST Center for Neutron Research (NCNR) Information Management System (IMS) and Summer School Application

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 14, 2021 during a 60-day comment period. This notice allows for an additional 30 days for public comments.

Agency: National Institute of Standards and Technology (NIST), Commerce.

Title: National Institute for Standards and Technology NIST Center for Neutron Research (NCNR) Information Management System (IMS) and Summer School Application.

OMB Control Number 0693-0081.

Form Number(s):

Type of Request: Regular, revision of a current information collection.

Number of Respondents: 2,000.

Average Hours per Response: 1 hour.

Burden Hours: 2,000.

Needs and Uses: Registration of NCNR users; Collection of scientific experiment proposals; Regularly scheduled peer review of said proposals; Merit-based award of available experimental resources; Experiment date scheduling for selected projects (instrument scheduling); Collection and management of data required by the NCNR site access protocol; Managing the Health Physics training of arriving scientists; Coordination of administrative data; Collection of data in support of related activities such as NCNR Summer School for facility users; Management of the research results such as collected data, and subsequent publications; Numerous reporting functions used to evaluate and manage the NCNR activities.

Affected Public: Scientific personnel using NCNR facility.

Frequency: On occasion.

Respondent's Obligation: Required to obtain benefits.

Legal Authority: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0081.

Sheleen Dumas,
Department PRA Clearance Officer, Office of the Chief Information Officer, Commerce Department.

[FR Doc. 2021-20427 Filed 9-20-21; 8:45 am]

BILLING CODE 3510-13-P